DEPARTMENT OF LABOR

Employment and Training Administration

[TA-W-57,118]

Lucerne Textiles, Inc., New York, NY; Dismissal of Application for Reconsideration

Pursuant to 29 CFR 90.18(C) an application for administrative reconsideration was filed with the Director of the Division of Trade Adjustment Assistance for workers at Lucerne Textiles, Inc., New York, New York. The application contained no new substantial information which would bear importantly on the Department's determination. Therefore, dismissal of the application was issued.

TA-W-57,118; Lucerne Textiles, Inc., New York, New York (July 21, 2005).

Signed in Washington, DC this 28th day of July 2005.
Timothy Sullivan,
Director, Division of Trade Adjustment Assistance.

[FR Doc. E5-4215 Filed 8-4-05; 8:45 am]

BILLING CODE 4510-30-P